NUCLEAR REGULATORY COMMISSION

[Docket No. 40-9083; ASLBP No. 10-895-01-ML-BD01]

Army Installation Command; Establishment of Atomic Safety and Licensing Board

Pursuant to delegation by the Commission dated December 29, 1972, published in the Federal Register, 37 FR 28,710 (1972), and the Commission's regulations, see 10 CFR 2.104, 2.105, 2.300, 2.313, 2.318, and 2.321, notice is hereby given that an Atomic Safety and Licensing Board (Board) is being established to preside over the following proceeding:

U.S. Army Installation Command

(Schofield Barracks, Oahu, Hawaii, and Pohakuloa Training Area, Island of Hawaii, Hawaii)

This proceeding concerns four requests for hearing from petitioners Cory Martha Harden, Amelia Gora, Luwella Leonardi, and Barbara Moore. Additionally, e-mails in support of Ms. Harden's hearing request were submitted by Jim Albertini on behalf of the Malu `Aina Center for Non-Violent Education and Action, by Isaac D. Harp, and by Angela Rosa. The hearing requests and supporting filings were submitted in response to an August 13, 2009 Notice of License Application Request of U.S. Army Installation Command for Schofield Barracks, Oahu, Hawaii, and Pohakuloa Training Area, Island of Hawaii, Hawaii, and Notice of Opportunity To Request a Hearing (74 FR 40,855). The license application requests authority for the U.S. Army Installation Command to possess depleted uranium (DU) at the Schofield Barracks and Pohakuloa Training Area sites due to the existence of residual DU resulting from the use of M101 Spotting Rounds.

The Board is comprised of the following administrative judges:

E. Roy Hawkens, Chair, Atomic Safety and Licensing Board Panel, U.S. Nuclear Regulatory Commission, Washington, DC 20555-0001.

Anthony J. Baratta, Atomic Safety and Licensing Board Panel, U.S. Nuclear Regulatory Commission, Washington, DC 20555-0001.

Michael F. Kennedy, Atomic Safety and Licensing Board Panel, U.S. Nuclear Regulatory Commission, Washington, DC 20555-0001.

All correspondence, documents, and other materials ordinarily are filed in accordance with the NRC E-Filing rule, which the NRC promulgated in August 2007 (72 FR 49,139). Several petitioners have requested to be exempted from complying with that rule. Those requests shall be resolved by the Board.

Issued at Rockville, Maryland, this 24th day of November 2009.
E. Roy Hawkens,
Chief Administrative Judge, Atomic Safety and Licensing Board Panel.

[FR Doc. E9-28660 Filed 11-30-09; 8:45 am]

BILLING CODE 7590-01-P